DEPARTMENT OF THE INTERIOR

Bureau of Land Management

[BLM_NM_FRN_MO4500170661]

Public Land Order No. 7923 for Public Lands Withdrawal Surrounding Chaco Culture National Historical Park Boundary; San Juan, Sandoval, and McKinley Counties, New Mexico

AGENCY: Bureau of Land Management.

ACTION: Public land order.

SUMMARY: This Order withdraws approximately 336,404.42 acres of public lands surrounding Chaco Culture National Historical Park from location and entry under the United States mining laws and from leasing under the mineral leasing laws, but not the mineral materials laws, subject to valid existing rights. The purpose of this withdrawal is to protect these public lands and the greater connected landscape with a rich Puebloan, Tribal Nation, and cultural legacy in the New Mexico counties of San Juan, Sandoval, and McKinley for a period of 20 years.

DATES: This Order takes effect on June 7, 2023.

FOR FURTHER INFORMATION CONTACT: Sarah N. Scott, Bureau of Land Management (BLM) Farmington Field Office, telephone: 505-564-7689, email: sscott@blm.gov, during regular business hours, 8 a.m. to 4:30 p.m. MT, Monday through Friday, except holidays. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: This Order does not apply to non-Federal interests within the boundaries of the area described herein. If the non-Federal interests within the boundaries of the area described in this Order are subsequently acquired by the United States, the non-Federal interests will become subject to this withdrawal.

Order

By virtue of the authority vested in the Secretary of the Interior by section 204(c) of the Federal Land Policy and Management Act of 1976, 43 U.S.C. 1714(c), it is ordered as follows:

1. Subject to valid existing rights, the public lands, and all non-Federal lands that are subsequently acquired by the Federal government, within the Townships identified below, as depicted in the attached map, are hereby withdrawn from location and entry under the United States mining laws and from leasing under the Mineral Leasing Act of 1920, for a 20-year term in order to protect these public lands and the greater connected landscape with a rich Puebloan and Tribal Nation legacy from the potential impacts associated with oil and gas development activities and from adverse effects of locatable mineral exploration and mining, subject to valid existing rights.

New Mexico Principal Meridian, New Mexico

T. 20 N., R. 6 W.,

Sec. 6, lots 3 thru 7, SE¼NW¼, and E½SW¼;

Sec. 7; Sec. 8, W½;

Secs. 17 thru 20 and Sec. 30.

T. 21 N., R. 6 W.,

Sec. 18, lot 4;

Sec. 19, lots 3 and 4, E½SW¼, and SW¼SE¼;

Sec. 30, lots 1 thru 4, W½NE¼, E½NW¼, E½SW¼, and SE¼;

Sec. 31, lots 1 thru 4, NE¼, E½NW¼ and E½SW¼;

Sec. 32, SW¼NW¼ and W½SW¼.

T. 19 N., R. 7 W.,

Sec. 1, lots 5 thru 7 and SW¼SE¼;

Sec. 5, S½;

Sec. 6, lots 1, 2, 6, and 7, S½NE¼, E½SW¼, and SE¼;

Secs. 7 and 8;

Sec. 11, S½;

Sec. 12, lots 1 and 2, W½NE¼, and NW¼;

Secs. 17 thru 19;

Sec. 20, N½ and SW¼;

Sec. 21;

Sec. 22, W½;

Sec. 27, NW¼NE¼, N½NW¼, and SW¼NW¼;

Sec. 28, N½, SW¼, and N½SE¼;

Sec. 30.

T. 20 N., R. 7 W.,

Sec. 1;

Sec. 2, lots 1 thru 4, S½NE¼, and SW¼;

Sec. 3;

Sec. 4, SW¼;

Secs. 5 thru 7;

Sec. 8, N½ and SW¼;

Secs. 9 thru 12, and Secs. 17, 19, 21, and 29;

Sec. 30, lots 1 thru 4, E½NW¼, E½SW¼, and SE¼;

Sec. 31;

Sec. 32, N½ and SW¼;

Sec. 33, SW¼.

T. 21 N., R. 7 W.,

Sec. 2, lot 4, S½NW¼, SW¼, NW¼SE¼, and S½SE¼;

Secs. 3 thru 5;

Sec. 6, lots 1 and 2, S½NE¼, and SE¼;

Secs. 7 thru 11;

Sec. 12, SW¼NW¼, SW¼, and SW¼SE¼;

Sec. 13, NW¼NE¼, S½NE¼, NW¼, and S½;

Secs. 14, 15, 17, and 18;

Sec. 19, lots 1 thru 4, NE¼, E½NW¼, and E½SW¼;

Sec. 20, N½;

Secs. 21 thru 23;

Sec. 24, SW¼;

Sec. 25, W½;

Sec. 26, N½ and SE¼;

Sec. 27, N½;

Sec. 28, N½ and SW¼;

Sec. 29, NE¼ and S½;

Sec. 33, W½;

Sec. 35, E½.

T. 22 N., R. 7 W.,

Sec. 28, S½SW¼;

Sec. 29, S½NW¼ and S½;

Secs. 30, 31, and 33;

Sec. 34, SW¼NW¼, SW¼, and S½SE¼.

T. 19 N., R. 8 W.,

Secs. 1 and 2;

Sec. 3, lots 3 and 4, S½NW¼, and S½;

Sec. 9, E½ and E½SW¼;

Secs. 10 thru 15;

Sec. 16, lots 3 thru 7, NE¼, NE¼SW¼, and N½SE¼;

Sec. 18, lots 3 and 4 and E½SW¼;

Sec. 19;

Sec. 20, N½ and SW¼;

Sec. 21, S½SE¼;

Secs. 23 thru 25, and Secs. 27 and 29;

Sec. 30, lots 1 and 4, E½, NE¼NW¼, and SE¼SW¼;

Secs. 33 thru 35.

T. 20 N., R. 8 W.,

tracts 37, 40, 41, and 48;

tracts 52 thru 55;

tract 58;

tracts 61 thru 67;

tracts 69, 73, 77, 78, 85, 86, and 92;

tracts 94 thru 98;

tracts 102, 104, and 105.

T. 21 N., R. 8 W.,

Secs. 3 thru 9;

Sec. 10, N½ and SW¼;

Sec. 11, N½ and SE¼;

Sec. 13;

Sec. 14, E½;

Secs. 17 and 18;

Secs. 22 thru 24;

Sec. 26, N½ and SE¼;

Sec. 34, lots 1 thru 8 and NE¼;

Sec. 35.

T. 22 N., R. 8 W.,

Sec. 7, lots 1 thru 4, SE¼NW¼, E½SW¼, NW¼SE¼, and S½SE¼;

Sec. 17, NW¼NW¼, S½NW¼, SW¼, NW¼SE¼, and S½SE¼;

Sec. 18;

Sec. 20, N½ and SW¼;

Sec. 21, SW¼NE¼, NW¼NW¼, S½NW¼, and SE¼;

Sec. 22, S½;

Sec. 23, S½;

Sec. 24, S½SW¼ and S½SE¼;

Secs. 25 thru 27;

Sec. 28, E½;

Sec. 31, lots 3 thru 8 and E½SW¼;

Secs. 32 thru 35.

T. 19 N., R. 9 W.,

Sec. 3, lots 1 thru 4, S½NE¼, S½NW¼, and SW¼;

Sec. 12;

Sec. 14, N½ and SE¼;

Sec. 15, NW¼ and S½;

Sec. 23;

Sec. 24, NW¼ and S½;

Sec. 27;

Sec. 30, lots 1 and 2;

Sec. 35.

T. 20 N., R. 9 W.,

Sec. 4;

Sec. 5, SW¼;

Sec. 6;

Sec. 7, lots 1 and 2, E½, and E½NW¼;

Secs. 8 and 9;

Sec. 17, N½;

Sec. 18, NE¼;

Sec. 30.

T. 22 N., R. 9 W.,

Sec. 1, SW¼NW¼, NW¼SE¼, and S½SE¼;

Secs. 3 thru 9;

Secs. 12 thru 15;

Sec. 17;

Sec. 18, lots 3 and 4, E½, and E½SW¼;

Secs. 19 and 20;

Sec. 21, NE¼ and S½;

Secs. 22 thru 24;

Sec. 26, W½;

Secs. 27 thru 34.

T. 23 N., R. 9 W.,

Sec. 18, SW¼SE¼;

Sec. 19;

Sec. 20, SW¼NE¼;

Sec. 27, SW¼NW¼, SW¼, and SW¼SE¼;

Secs. 28 and 30;

Sec. 31, lots 1 thru 4, E½NW¼, E½SW¼, and SE¼;

Sec. 33, E½;

Sec. 34;

Sec. 35, SW¼NW¼, SW¼, and SW¼SE¼.

T. 17 N., R. 10 W.,

Sec. 30, lot 3, NE¼SW¼, and N½SE¼.

T. 19 N., R. 10 W.,

Sec. 10, SW¼NE¼, SE¼NW¼, NE¼SW¼, and NW¼SE¼;

Sec. 28, SE¼SE¼.

T. 20 N., R. 10 W.,

Sec. 1;

Sec. 2, lots 1 thru 3, lots 5 thru 19, and S½NE¼;

Sec. 3, lots 5 and 6;

Sec. 6;

Sec. 12, lots 1 thru 4;

Secs. 20 and 28;

Sec. 30, NE¼SW¼.

T. 21 N., R. 10 W.,

Sec. 4;

Sec. 5, lot 2 and W½SW¼;

Secs. 6 thru 9;

Secs. 16 thru 30;

Sec. 33, lots 1 thru 4;

Sec. 34, NE¼ and S½;

Secs. 35 and 36.

T. 22 N., R. 10 W.,

Sec. 1;

Secs. 3 thru 9;

Sec. 10, NW¼ and N½SW¼;

Sec. 11, S½;

Secs. 12 and 13;

Sec. 14, W½SW¼;

Sec. 15, S½;

Sec. 16, N½;

Secs. 17 thru 19;

Sec. 20, SE¼;

Sec. 21, N½;

Sec. 22;

Sec. 23, W½NE¼, NW¼, and S½;

Secs. 24 and 25;

Sec. 28, NE¼ and SW¼;

Sec. 30, lots 1 and 2, NE¼, and E½NW¼;

Sec. 34, N½ and SW¼.

T. 23 N., R. 10 W.,

Secs. 5 thru 8;

Sec. 9, SW¼ and SW¼SE¼;

Sec. 13, S½NW¼ and S½;

Sec. 14, S½NE¼, NW¼, and S½;

Sec. 15, NE¼ and S½;

Secs. 17 thru 22;

Sec. 24, NE¼ and S½;

Sec. 25, E½;

Sec. 27, N½;

Sec. 28, N½ and SW¼;

Secs. 29 thru 31;

Secs. 33 and 34.

T. 24 N., R. 10 W.,

Secs. 17 thru 20;

Sec. 29;

Sec. 30, lot 1, E½, E½NW¼, and NE¼SW¼;

Sec. 31.

T. 15 N., R. 11 W.,

Sec. 9, N½NW¼ and SW¼NW¼.

T. 16 N., R. 11 W.,

Sec. 2, lots 1 thru 4, SW¼, NW¼SE¼, and S½SE¼;

Sec. 14, SW¼;

Sec. 21, SW¼;

Sec. 22, NE¼ and SW¼;

Sec. 26, E½NE¼, W½NW¼, SW¼, and W½SE¼;

Secs. 28 and 29;

Sec. 30, lots 1 and 2, E½NW¼, and SE¼;

Sec. 31, lots 1 thru 4, NE¼, E½NW¼, and E½SW¼;

Sec. 33, N½NE¼, SE¼NE¼, W½, NE¼SE¼, S½NW¼SE¼, and S½SE¼;

Sec. 34, N½, SW¼, N½SE¼, and SW¼SE¼.

T. 17 N., R. 11 W.,

Sec. 2, SE¼;

Sec. 4, SE¼;

Sec. 10, N½SW¼ and N½SE¼;

Secs. 12, 14, and 18;

Sec. 22, S½;

Sec. 24;

Sec. 34, NW¼ and S½.

T. 18 N., R. 11 W.,

Sec. 18.

T. 20 N., R. 11 W.,

Sec. 22, NE¼NE¼;

Sec. 23, W½NW¼NW¼;

Sec. 26, E½SE¼.

T. 21 N., R. 11 W.,

Secs. 1 thru 3;

Sec. 4, lots 3 and 4, S½NW¼, and S½;

Sec. 5, lots 3 and 4 and S½NW¼;

Sec. 6, lots 1 thru 5, S½NE¼, and SE¼NW¼;

Secs. 7 thru 25;

Sec. 26, NE¼;

Secs. 28 and 30.

T. 22 N., R. 11 W.,

Sec. 6;

Sec. 10, SE¼;

Sec. 12;

Sec. 14, SW¼;

Sec. 18, lots 1 thru 4, E½NW¼, and E½SW¼;

Sec. 22;

Sec. 24, SW¼NE¼ and W½;

Sec. 26, NE¼ and S½;

Sec. 28, W½;

Sec. 30;

Sec. 34, SE¼.

T. 23 N., R. 11 W.,

Secs. 1, 3, 4, and 6;

Sec. 7, lots 1 and 2, NE¼, and E½NW¼;

Sec. 8, S½;

Secs. 9 thru 11;

Sec. 12, N½ and SE¼;

Secs. 13 thru 15;

Sec. 17;

Secs. 21 thru 23;

Sec. 24, N½ and SE¼;

Sec. 25, NW¼ and S½;

Sec. 26;

Sec. 27, N½ and SE¼;

Sec. 28, NE¼ and N½NW¼;

Sec. 33, S½NE¼, S½NW¼, and S½;

Sec. 34, S½SW¼;

Sec. 35, NE¼;

Sec. 36, S½.

T. 24 N., R. 11 W.,

Sec. 13, NW¼;

Sec. 14;

Sec. 15, lot 1, lots 5 thru 8, lot 10, and S½;

Sec. 16, lots 10, 13, and 14;

Sec. 20, lots 3, 5, and 6;

Sec. 21, lots 7 thru 10 and SE¼;

Sec. 22, NE¼ and S½;

Sec. 23;

Sec. 24, NE¼ and S½;

Sec. 25, W½;

Secs. 26 thru 28;

Sec. 29, lots 1 and 2, lots 5 thru 8, lots 10 thru 14, and SE¼;

Sec. 30, lots 6 thru 13;

Sec. 31;

Secs. 33 thru 35.

T. 15 N., R. 12 W.,

Sec. 8, SW¼NE¼;

Sec. 10, SW¼.

T. 16 N., R. 12 W.,

Secs. 6 and 8;

Sec. 10, NW¼;

Sec. 14, NW¼ and S½;

Sec. 20, N½ and SW¼;

Secs. 22 and 24;

Sec. 26, N½ and SE¼;

Secs. 28 and 30;

Sec. 32, E½.

T. 17 N., R. 12 W.,

Sec. 4, SE¼;

Sec. 6, lots 1 thru 5, S½NE¼, and SE¼NW¼;

Sec. 8, NE¼ and S½;

Sec. 10, NW¼;

Sec. 20, W½;

Sec. 22, N½;

Sec. 24, NE¼;

Sec. 26, E½;

Sec. 28, SE¼;

Sec. 30;

Sec. 32, W½ and SE¼SE¼;

tract 37.

T. 18 N., R. 12 W.,

Sec. 1;

Sec. 2, lots 1 thru 4, S½NW¼, and SW¼;

Sec. 4, SE¼;

Secs. 11 thru 13;

Sec. 14, N½;

Sec. 20, N½ and SW¼;

Secs. 22 thru 25;

Sec. 30, SE¼;

Sec. 32, SW¼, NW¼SE¼, and S½SE¼.

T. 19 N., R. 12 W.,

Sec. 1;

Sec. 16, SW¼NE¼, SE¼NW¼, NE¼SW¼, and NW¼SE¼;

Sec. 21; sec. 30, E½;

Secs. 31 and 32.

T. 20 N., R. 12 W.,

Sec. 4, lots 5 thru 16;

Sec. 5, lots 3 and 4, S½NW¼, SW¼, and W½SE¼;

Sec. 6, lots 8 thru 11;

Sec. 8, SW¼;

Sec. 17, NW¼NE¼ and N½NW¼;

Sec. 18;

Sec. 20, SE¼;

Sec. 22, N½ and SE¼;

Sec. 26;

Sec. 30, lots 3 and 4 and E½SW¼.

T. 21 N., R. 12 W.,

Secs. 4 and 10;

Sec. 22, NW¼;

Sec. 24, SW¼;

Sec. 25;

Sec. 28, NE¼ and S½;

Sec. 31, E½SE¼;

Secs. 32 and 34.

T. 22 N., R. 12 W.,

Sec. 1, S½;

Secs. 3 thru 6;

Sec. 7, SE¼;

Sec. 8;

Sec. 9, NW¼ and S½;

Secs. 10 thru 15;

Sec. 17, SW¼;

Sec. 18;

Sec. 19, lots 1 and 2, NE¼, and E½NW¼;

Sec. 21, N½;

Secs. 22 thru 27;

Sec. 28, N½;

Sec. 29;

Sec. 30, lots 3 and 4, E½SW¼, and SE¼;

Secs. 33 and 34;

Sec. 35, N½ and SE¼.

T. 23 N., R. 12 W.,

Sec. 1;

Sec. 5, lot 9;

Sec. 6, lots 12 thru 15;

Sec. 9, E½;

Sec. 10, lots 1 thru 8;

Sec. 13;

Sec. 14, lots 1 thru 8 and NW¼;

Sec. 15, lots 1 thru 8;

Sec. 17, lot 5 and W½SW¼;

Sec. 18, lots 3, 4, and 6, SE¼NE¼, E½SW¼, and SE¼;

Sec. 19;

Sec. 20, lots 4 thru 6 and lots 9 thru 16;

Sec. 21, lots 1 thru 3 and lots 6 thru 16;

Secs. 22 thru 24;

Sec. 25, E½;

Secs. 26 thru 30;

Sec. 33, W½;

Sec. 35, SE¼SE¼.

T. 24 N., R. 12 W.,

Sec. 35, lots 9 and 10 and lots 13 thru 16;

Sec. 36, lots 1 and 2 and lots 5 thru 18.

T. 15 N., R. 13 W.,

Sec. 2, lots 3 and 4 and S½NW¼.

T. 16 N., R. 13 W.,

Sec. 10, NW¼;

Sec. 18, lots 1 and 2 and E½NW¼;

Sec. 26, NW¼.

T. 17 N., R. 13 W.,

Sec. 2, lots 1 and 2 and S½NE¼;

Sec. 5, lots 3 and 4, S½NW¼, and S½;

Sec. 9, NW¼;

Secs. 10 and 12;

Sec. 15, SE¼;

Sec. 19;

Sec. 21, NW¼;

Sec. 24, NE¼ and S½;

Sec. 25, NE¼;

Sec. 26, SW¼;

Sec. 28, SW¼;

Secs. 32 and 33;

Sec. 34, NW¼.

T. 18 N., R. 13 W.,

Sec. 1;

Sec. 2, lots 1 and 2, S½NE¼, SW¼, and E½SE¼;

Secs. 3, 5, 9, 11, 13, and 15;

Sec. 19, SE¼;

Secs. 20, 21, 23, 25, 27, 29, and 31;

Sec. 32, NE¼ and SW¼;

Sec. 33;

Sec. 34, W½;

Sec. 35;

Sec. 36, SW¼.

T. 19 N., R. 13 W.,

Secs. 2 and 4;

Sec. 6, SE¼;

Sec. 15, S½SW¼ and S½SE¼;

Sec. 18, lots 5 thru 12 and NE¼;

Sec. 19, lot 3, and lots 5 thru 8, E½, and E½SW¼;

Secs. 20 thru 22;

Secs. 28 and 29;

Sec. 32, NE¼, N½NW¼, SE¼NW¼, SW¼, and N½SE¼;

Sec. 33;

Sec. 34, N½ and SW¼;

Sec. 36.

T. 20 N., R. 13 W.,

Sec. 4;

Sec. 7, lot 2, W½SW¼NE¼, and SE¼NW¼;

Secs. 8, 10, 12, 14, 18, 20, 22, 24, 26, 28, and 30;

Sec. 32, N½;

Sec. 34.

T. 21 N., R. 13 W.,

Secs. 3 thru 6;

Sec. 8, N½ and SW¼;

Sec. 9;

Sec. 10, NE¼;

Secs. 11 and 13;

Sec. 14, lots 1 thru 12;

Sec. 15;

Sec. 17, N½ and SE¼;

Secs. 18, 19, and 21;

Sec. 22, N½;

Sec. 23;

Sec. 24, NE¼ and S½;

Secs. 25 and 27;

Sec. 28, NE¼ and SW¼;

Sec. 29;

Sec. 30, lots 5 thru 8, E½NW¼, and E½SW¼;

Secs. 31 and 33;

Sec. 34, NW¼;

Sec. 35.

T. 22 N., R. 13 W.,

Sec. 1, lots 3 and 4 and S½NW¼;

Sec. 3, SW¼;

Sec. 4, lots 3 and 4, S½NW¼, and S½;

Sec. 5;

Sec. 8, NW¼ and S½;

Sec. 9, NE¼ and SW¼;

Sec. 10;

Sec. 11, NW¼ and S½;

Sec. 12, S½;

Sec. 13, NE¼, NE¼SW¼, N½SE¼, and SE¼SE¼;

Sec. 14, N½ and W½SE¼;

Sec. 15, NE¼;

Sec. 17;

Sec. 19, lot 4, NE¼NE¼, S½NE¼, E½SW¼, and SE¼;

Sec. 20, W½;

Sec. 21, N½NW¼;

Sec. 23;

Sec. 24, N½NE¼, SE¼NE¼, NW¼, and S½;

Sec. 25, E½;

Sec. 27, SW¼;

Secs. 28 thru 30;

Sec. 31, lots 1 thru 3, E½, E½NW¼, and NE¼SW¼;

Sec. 33;

Sec. 34, E½;

Sec. 35.

T. 23 N., R. 13 W.,

Sec. 2, N½SW¼, SE¼SW¼, and SE¼;

Sec. 3, S½SE¼;

Sec. 10, lots 7 and 8;

Sec. 15, S½NW¼ and S½;

Sec. 20, E½SW¼ and SE¼;

Sec. 21, S½;

Sec. 22, SW¼;

Sec. 26;

Sec. 27, NE¼ and S½;

Sec. 28;

Sec. 29, NE¼, NE¼NW¼, S½NW¼, and S½;

Sec. 34;

Sec. 35, NE¼ and SW¼.

The areas described aggregate 336,404.42 acres.

1. The withdrawal made by this Order does not alter the applicability of laws governing the use of BLM-managed lands other than the Mining Law of 1872 and the mineral leasing laws.

2. This withdrawal will expire 20 years from the effective date of this order unless, as a result of a review conducted before the expiration date pursuant to Section 204(f) of the Federal Land Policy and Management Act of 1976, 43 U.S.C. 1714(f), the Secretary determines that the withdrawal shall be extended.

(Authority: 43 U.S.C. 1714)

Dated: June 2, 2023.
Deb Haaland,
Secretary.

[FR Doc. 2023-12158 Filed 6-6-23; 8:45 am]

BILLING CODE 4331-23-P